DEPARTMENT OF AGRICULTURE

Animal and Plant Health Inspection Service

[Docket No. APHIS-2012-0064]

Notice of Determination; New and Revised Treatments for the Imported Fire Ant Program

AGENCY: Animal and Plant Health Inspection Service, USDA.

ACTION: Notice.

SUMMARY: We are advising the public that we are adding or revising certain treatment schedules for the Imported Fire Ant Program in the Plant Protection and Quarantine (PPQ) Treatment Manual. In a previous notice, we made available to the public for review and comment a treatment evaluation document that discussed the existing treatment schedules, described the new treatment schedules, and explained why these changes are necessary. We also made available an environmental assessment that explained pesticide use in the new and revised treatments in the imported fire ant program. Based on the treatment evaluation document, the environmental assessment, and the comments we received, we are announcing our determination to add those new and revised treatments to the PPQ Treatment Manual.

DATES: Effective Date: November 26, 2013.

FOR FURTHER INFORMATION CONTACT: Mr. Charles Brown, Director, Emergency Management, Emergency and Domestic Programs, PPQ, APHIS, 4700 River Road Unit 135, Riverdale, MD 20737-1236; (301) 851-2119.

SUPPLEMENTARY INFORMATION:

Background

The imported fire ant, Solenopsis invicta Buren and Solenopsis richteri Forel, is an aggressive, stinging insect that, in large numbers, can seriously injure or even kill livestock, pets, and humans. The imported fire ant feeds on crops and builds large, hard mounds that damage farm and field machinery. Imported fire ants are notorious hitchhikers and are readily transported long distances when articles such as soil and nursery stock are shipped outside the infested area.

The Animal and Plant Health Inspection Service (APHIS) works to prevent further imported fire ant spread by enforcing a Federal quarantine and cooperating with imported fire ant-infested States to mitigate the risks associated with the movement of regulated articles such as nursery stock and used soil-moving equipment.

The regulations in “Subpart—Imported Fire Ant” (7 CFR 301.81 through 301.81-11, referred to below as the regulations) are intended to prevent the imported fire ant from spreading throughout its ecological range within the country. The regulations quarantine infested States or infested areas within States and restrict interstate movement of regulated articles to prevent the artificial spread of the imported fire ant.

Sections 301.81-4 and 301.81-5 of the regulations provide, among other things, that regulated articles requiring treatment prior to interstate movement must be treated in accordance with 7 CFR part 305, which contains our phytosanitary treatment regulations.

In § 305.2, paragraph (b) states that approved treatment schedules are set out in the Plant Protection and Quarantine (PPQ) Treatment Manual.¹ Section 305.3 sets out a process for adding, revising, or removing treatment schedules in the PPQ Treatment Manual. In that section, paragraph (a) sets out the process for adding, revising, or removing treatment schedules when there is no immediate need to make a change.

¹ The PPQ Treatment Manual is available on the Internet at http://www.aphis.usda.gov/import_export/plants/manuals/index.shtml or by contacting the Animal and Plant Health Inspection Service, Plant Protection and Quarantine, Manuals Unit, 92 Thomas Johnson Drive, Suite 200, Frederick, MD 21702.

In accordance with § 305.3(a)(1), we published a notice ² in the Federal Register on March 6, 2013 (78 FR 14510-14511, Docket No. APHIS-2012-0064), in which we announced the availability, for review and comment, of a treatment evaluation document (TED) we prepared to discuss the existing treatment schedules, describe the new treatment schedules, and explain why certain changes were necessary. In addition, we prepared an environmental assessment (EA) entitled, “Pesticide Use in the Imported Fire Ant Program” (March 2012) to document our review and analysis of the environmental impacts associated with the new pesticides and new uses for previously approved pesticides.

² To view the notice, the treatment evaluation document, the environmental assessment, and the comments we received, go to http://www.regulations.gov/#!docketDetail;D=APHIS-2012-0064.

We solicited comments on the notice for 60 days ending on May 6, 2013. We received four comments by that date, from a State agriculture department, an organization of State plant pest regulatory agencies, an industry association, and a private citizen. All four commenters supported the changes to the PPQ Treatment Manual described in the TED. Therefore, in accordance with § 305.3, we are announcing the Administrator's determination to add the new and revised treatment schedules for use for the imported fire ant program to the PPQ Treatment Manual.

We are also announcing that we have prepared a finding of no significant impact (FONSI) for this action. The FONSI, which is based on the EA and the comments we received, documents our conclusion that the updates to the PPQ Treatment Manual will not have a significant impact on the quality of the human environment.

The EA and FONSI were prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 20th day of November 2013.
Kevin Shea,
Administrator, Animal and Plant Health Inspection Service.

[FR Doc. 2013-28322 Filed 11-25-13; 8:45 am]

BILLING CODE 3410-34-P